DEPARTMENT OF THE INTERIOR

National Park Service

[NPS-WASO-NRNHL-11719; 2200-3200-665]

National Register of Historic Places; Notification of Pending Nominations and Related Actions

Nominations for the following properties being considered for listing or related actions in the National Register were received by the National Park Service before November 3, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by December 19, 2012. Before including your address, phone number, email address, or other personal identifying information in your comment, you should be aware that your entire comment—including your personal identifying information—may be made publicly available at any time. While you can ask us in your comment to withhold your personal identifying information from public review, we cannot guarantee that we will be able to do so.

Dated: November 14, 2012.
J. Paul Loether,
Chief, National Register of Historic Places/National Historic Landmarks Program.

ARKANSAS

Garland County

Whittington Park Historic District, Whittington Ave. & Sabie St. between Water & Woodfin Sts., Hot Springs, 12001055

GEORGIA

Dooly County

Vienna High and Industrial School, 216 9th St., Vienna, 12001056

INDIANA

Floyd County

Beard-Kerr Farm, 502 Georgetown-Lanesville Rd., Georgetown, 12001057

Johnson County

Franklin Senior High School, (Indiana's Public Common and High Schools MPS) 550 E. Jefferson St., Franklin, 12001058

La Porte County

Ames Family Homestead, 5332 & 5336 W. 150 N., La Porte, 12001062

Lake County

Roosevelt, Theodore, High School, (Indiana's Public Common and High Schools MPS) 730 W. 26th St., Gary, 12001059

Roselawn—Forest Heights Historic District, (Historic Residential Suburbs in the United States, 1830-1960 MPS) Roughly bounded by Lawndale, 172nd Pl., Hohman & State Line Aves., Hammond, 12001060

Sablotny, Barney, House, 501 W. 47th St., Gary, 12001061

Marion County

Emerson Avenue Addition Historic District, (Historic Residential Suburbs in the United States, 1830-1960 MPS) Roughly bounded by E. Michigan & E. St Clair Sts., N. Emerson Ave. & Ellenberger Park, Indianapolis, 12001063

Kassebaum Building, 6319, 6323, 6325, 6327, 6331 Guilford Ave. & 915 E. Westfield Blvd., Indianapolis, 12001064

Tippecanoe County

Morehouse, Levi and Lucy, Farm, 5038 Morehouse Rd., West Lafayette, 12001065

MAINE

Kennebec County

Waterville Main Street Historic District, Roughly Main & Common Sts., Waterville, 12001066

Penobscot County

Colonial Apartments, 51-53 High St., Bangor, 12001067

Piscataquis County

American Woolen Company Foxcroft Mill, E. Main St., Dover-Foxcroft, 12001068

Washington County

Calais Observatory, Meridian Park, North St., Calais, 12001069

Sewell Memorial Congregational Church, 558 US 1, Robbinston, 12001070

MICHIGAN

Charlevoix County

Boyne City Central Historic District, Water, Pearl, Lake, Ray & Main Sts., Boyne City, 12001071

MISSOURI

St. Louis Independent city

Forest Park Southeast Historic District (Boundary Increase IV), Portions of Boyle, Chouteau, Kentucky, Norfolk, Swan, Talmadge, Tower Grove, Vandeventer & Vista, St. Louis (Independent City), 12001072

NEBRASKA

Cass County

Kupke, Christian, Farmstead, 32618 Church Rd., Murdock, 12001073

Douglas County

Traver Brothers Row Houses, (Attached Dwellings of Omaha, Nebraska from 1880-1962 MPS) 2601-2607 Jones St. & 651-672 S. 26th Ave., Omaha, 12001074

Richardson County

Miles Ranch, 63795 638 Ave., Dawson, 12001075

PUERTO RICO

Lajas Municipality

Rivera, Luis Munoz, School, (Early Twentieth Century Schools in Puerto Rico TR) 65 Infanteria St., Lajas, 12001076

Las Marias Municipality

de Hostos, Eugenio Maria, School, (Early Twentieth Century Schools in Puerto Rico TR) Matias Brugman Ave., Las Marias, 12001077

Naranjito Municipality

Escuela Guillermo Esteves, (Early Twentieth Century Schools in Puerto Rico TR) Jct. of Georgetti & Achiote Sts., Naranjito, 12001078

A request for removal has been made for the following resource:

NEBRASKA

Otoe County

Little Nemaha River Bridge, Co. Rd. over the Little Nemaha R., 3 mi. NW of Syracuse., Syracuse, 92000723

[FR Doc. 2012-29168 Filed 12-3-12; 8:45 am]

BILLING CODE 4312-51-P